DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register, Vol. 72, No. 248, pp. 73847-73850, dated Friday, December 28, 2007) is amended to reflect changes to the current structure of CMS.

In an effort to improve the value and service that CMS provides to the Nation, the CMS has modified its structure to align similar functions under common executive leadership and allow CMS to establish a Center for Program Integrity and to strengthen its focus on beneficiary services and strategic planning.

The structure includes the following, which all report to the Administrator, CMS: (1) Center for Medicare, (2) Center for Medicaid, CHIP and Survey & Certification, (3) Center for Strategic Planning, (4) Center for Program Integrity, and (5) Office of External Affairs and Beneficiary Services. In addition, the current role of the Chief Operating Officer (COO) has been formalized and remains responsible for operations, information systems, contracts, finance, E-health standards and services, and the Consortia. The COO continues to report to the Administrator, CMS. The following organizations remain substantively unchanged and continue to report to the Administrator, CMS: Office of Equal Opportunity and Civil Rights, Office of Legislation, Office of the Actuary, Office of Clinical Standards and Quality, and the Office of Strategic Operations and Regulatory Affairs (will be renamed the Office of Executive Operations and Regulatory Affairs to more accurately reflect the work of the organization). New administrative codes were assigned to all organizations, including the immediate office of the Administrator.

Given the complexity and importance of CMS' programs, this realignment of existing functions positions CMS to consistently excel in serving our beneficiaries and strategically positions CMS for the future. Additionally, this effort ensures common core functions are under common executive leadership and share a consistent vision.

The specific amendments to Part F are described below:

I. Under Part F, CMS, Office of the Administrator, FA.10 Organization is deleted in its entirety and replaced with the following:

FC.10 Organization. CMS is headed by the Administrator, CMS, and includes the following organizational components:

Office of the Administrator (FC)

Office of Equal Opportunity and Civil Rights (FCA)

Office of External Affairs and Beneficiary Services (FCB)

Office of Legislation (FCC)

Office of the Actuary (FCE)

Office of Executive Operations and Regulatory Affairs (FCF)

Office of Clinical Standards and Quality (FCG)

Center for Medicare (FCH)

Center for Medicaid, CHIP and Survey & Certification (FCJ)

Center for Strategic Planning (FCK)

Center for Program Integrity (FCL)

Chief Operating Officer (FCM)

II. Under Part F, CMS, Office of the Administrator, FA.20 Functions is replaced with FC.20 Functions. The functions of the new organizations read as follows:

Office of External Affairs and Beneficiary Services (FCB)

• Serves as CMS' focal point for beneficiary communications and services, provides leadership for CMS in the areas of intergovernmental affairs, and media relations. Advises the Administrator and other CMS components in all activities related to these functions and on matters that affect other units and levels of government.

• Contributes to the formulation of policies, programs, and systems as well as oversees beneficiary services, intergovernmental affairs, media relations, and tribal affairs, including CMS' Ombudsman program, call center operations, web sites, and Medicare contractor communications. Coordinates with the Office of Legislation on the development and advancement of new legislative initiatives and improvements.

• Oversees the analysis and evaluation of customer data for the purpose of improving beneficiary communication tools (including but not limited to brochures, program/media campaigns, handbooks, websites, reports, presentations/briefings) and identifying best practices for the benefit of beneficiaries and other CMS customers. Coordinates this data with other CMS components to resolve customer and beneficiary issues through continuous quality improvement.

• Oversees all CMS interactions and collaboration with key stakeholders relating to beneficiary communications and services, media relations, and intergovernmental affairs (e.g., external advocacy groups, Medicare beneficiary customer service, the media, contractors, Native American and Alaskan Native tribes, HHS, the White House, other CMS components, and other Federal government entities).

• Formulates and implements a customer service plan that serves as a roadmap for the effective treatment and advocacy of customers and the quality of information provided to them.

• Coordinates communications, messaging, media relations, partner relations and Tribal Affairs outreach with the CMS Regional Offices.

• Serves as senior advisor to the Administrator in all activities related to the media. Provides consultation, advice, and training to CMS' senior staff with respect to relations with the news media.

• Serves as liaison between CMS and State and local officials, and individuals representing State and local officials and advocacy groups.

• Serves as coordinator of tribal affairs issues and liaison between CMS and State and local officials representing tribal affairs groups.

Center for Medicare (FCH)

• Serves as CMS' focal point for the formulation, coordination, integration, implementation, and evaluation of national Medicare program policies and operations.

• Identifies and proposes modifications to Medicare programs and policies to reflect changes or trends in the health care industry, program objectives, and the needs of Medicare beneficiaries. Coordinates with the Office of Legislation on the development and advancement of new legislative initiatives and improvements.

• Serves as CMS' lead for management, oversight, budget and performance issues relating to Medicare Advantage and prescription drug plans, Medicare fee-for-service providers and contractors.

• Oversees all CMS interactions and collaboration with key stakeholders relating to Medicare (e.g., plans, providers, other government entities, advocacy groups, Consortia) and communication and dissemination of policies, guidance and materials to same to understand their perspectives and to drive best practices in the health care industry.

• Develops and implements a comprehensive strategic plan, objectives and measures to carry out CMS' Medicare program mission and goals and position the organization to meet future challenges with the Medicare program and its beneficiaries.

• Coordinates with the Center for Program Integrity on the identification of program vulnerabilities and implementation of strategies to eliminate fraud, waste, and abuse.

Center for Medicaid, CHIP and Survey & Certification (FCJ)

• Serves as CMS' focal point for the formulation, coordination, integration, implementation, and evaluation of all national program policies and operations relating to Medicaid, CHIP, Survey & Certification, and the Clinical Laboratory Improvement Act (CLIA).

• In partnership with States, evaluates the success of State agencies in carrying out their responsibilities for effective State program administration and beneficiary protection, and, as necessary, assists States in correcting problems and improving the quality of their operations.

• Identifies and proposes modifications to Medicaid and CHIP program measures, regulations, laws and policies to reflect changes or trends in the health care industry, program objectives, and the needs of Medicaid and CHIP beneficiaries. Collaborates with the Office of Legislation on the development and advancement of new legislative initiatives and improvements.

• Oversees the planning, coordination and implementation of the survey, certification and enforcement programs for all Medicare and Medicaid providers and suppliers, and for laboratories under the auspices of CLIA.

• Serves as CMS' lead for management, oversight, budget and performance issues relating to Medicaid, CHIP and Survey and Certification, and the related interactions with the States.

• Coordinates with the Center for Program Integrity on the identification of program vulnerabilities and implementation of strategies to eliminate fraud, waste, and abuse.

• In conjunction with the Office of External Affairs, oversees all CMS interactions and collaboration relating to Medicaid and CHIP with beneficiaries, States and territories and key stakeholders (i.e., health facilities and other health care providers, other Federal government entities, local governments) and communication and dissemination of policies, guidance and materials to same to understand their perspectives, support their efforts, and to drive best practices for beneficiaries, in States and throughout the health care industry.

• Develops and implements a comprehensive strategic plan, objectives and measures to carry out CMS' Medicaid and CHIP mission and goals and position the organization to meet future challenges with the Medicaid, CHIP and Survey & Certification, and CLIA programs.

Center for Strategic Planning (FCK)

• Serves as CMS' focal point for the planning, formulation and coordination of long-term strategic plans, and future program policy and proposals for CMS.

• Collaborates with the Office of Legislation on the development and advancement of new legislative initiatives and improvements.

• Conducts environmental scanning, identifying, evaluating and reporting emerging trends in health care delivery and financing and their interactions with CMS programs and implications for future policy development and planning.

• Oversees strategic, cross-cutting initiatives in coordination with other CMS components and external stakeholders.

• In collaboration with other CMS components, designs, coordinates, conducts research, demonstrations, analyses and special studies, and evaluates the results for impacts on beneficiaries, providers, plans, health care programs and financing, States and other partners, designing and assessing potential improvements, and developing new measurement tools.

• Oversees the development and dissemination of publications, data analyses, graphics, and briefing materials related to health care issues.

Center for Program Integrity (FCL)

• Serves as CMS' focal point for all national and State-wide Medicare and Medicaid programs and CHIP integrity fraud and abuse issues.

• Promotes the integrity of the Medicare and Medicaid programs and CHIP through provider/contractor audits and policy reviews, identification and monitoring of program vulnerabilities, and providing support and assistance to States. Recommends modifications to programs and operations as necessary and works with CMS Centers and Offices to affect changes as appropriate. Collaborates with the Office of Legislation on the development and advancement of new legislative initiatives and improvements to deter, reduce, and eliminate fraud, waste and abuse.

• Oversees all CMS interactions and collaboration with key stakeholders relating to program integrity (i.e., U.S. Department of Justice, HHS Office of Inspector General, State law enforcement agencies, other Federal entities, CMS components) for the purposes of detecting, deterring, monitoring and combating fraud and abuse, as well as taking action against those that commit or participate in fraudulent or other unlawful activities.

• In collaboration with other CMS Centers and Offices, develops and implements a comprehensive strategic plan, objectives and measures to carry out CMS' Medicare, Medicaid and CHIP program integrity mission and goals, and ensure program vulnerabilities are identified and resolved.

Chief Operating Officer (FCM)

• Overall responsibility for facilitating the coordination, integration and execution of CMS policies and activities across CMS components, including new program initiatives.

• Promotes accountability, communication, coordination, and facilitation of cooperative corporate decision-making among CMS senior leadership on management, operational and programmatic cross-cutting issues.

• Tracks and monitors CMS performance and intervenes, as appropriate, to ensure key milestones/deliverables are successfully achieved. Keeps the Administrator and Principal Deputy Administrator advised of the status of significant national initiatives and programs that affect beneficiaries and/or the health care industry and makes recommendations regarding necessary corrective actions.

• Provides executive leadership to CMS' Consortia operations, including facilitating all required interaction and coordination between Consortia and other CMS components.

• Oversees all planning, implementation and evaluation of administrative and operational activities for CMS, including enterprise-wide information systems and services, acquisition and grants, financial management, electronic health standards, facilities, and human resources.

Delegations of Authority

All delegations and re-delegations of authority made to officials and employees of affected organizational components will continue in them or their successor organization pending further re-delegation, provided they are consistent with this realignment.

(Authority: 44 U.S.C. 3101)

Dated: March 18, 2010.
Kathleen Sebelius,
Secretary.

[FR Doc. 2010-6429 Filed 3-23-10; 8:45 am]

BILLING CODE 4120-01-P